ENVIRONMENTAL PROTECTION AGENCY

[FRL-9173-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. Seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1981.04; Distribution of Offsite Consequence Analysis Information under Section 112(r); 40 CFR part 1400; was approved on 06/01/2010; OMB Number 2050-0172; expires on 06/30/2013; Approved with change.

EPA ICR Number 1353.09; Land Disposal Restrictions No-Migration Variances (Renewal); 40 CFR 268.6; was approved on 06/01/2010; OMB Number 2050-0062; expires on 06/30/2013; Approved without change.

EPA ICR Number 1926.05; NSPS for Commercial and Industrial Solid Waste Incineration Units; 40 CFR part 60, subparts A and CCCC; was approved on 06/02/2010; OMB Number 2060-0450; expires on 06/30/2013; Approved without change.

EPA ICR Number 1783.05; NESHAP for Flexible Polyurethane Foam Product; 40 CFR part 63, subparts A and III; was approved on 06/02/2010; OMB Number 2060-0357; expires on 06/30/2013; Approved without change.

EPA ICR Number 1790.05; NESHAP for Phosphoric Acid Manufacturing and Phosphate Fertilizers Production; 40 CFR part 63, subparts A, AA, and BB, was approved on 06/02/2010; OMB Number 2060-0361; expires on 06/30/2013; Approved without change.

EPA ICR Number 1739.06; NESHAP for the Printing and Publishing Industry; 40 CFR part 63, subparts A and KK; was approved on 06/03/2010; OMB Number 2060-0335; expires on 06/30/2013; Approved with change.

EPA ICR Number 2062.04; NESHAP for Site Remediation; 40 CFR part 63, subpart A and GGGGG; was approved on 06/03/2010; OMB Number 2060-0534; expires on 06/30/2013; Approved with change.

EPA ICR Number 1160.09; NSPS/NESHAP for Wool Fiberglass Insulation Manufacturing Plants; 40 CFR part 63, subpart A and NNN and 40 CFR part 60, subparts A and PPP, was approved on 06/03/2010; OMB Number 2060-0114; expires on 06/30/2013; Approved without change.

EPA ICR Number 1652.07; NESHAP for Halogenated Solvent Cleaners/Halogenated Hazardous Air Pollutants; 40 CFR part 63, subparts A and T; was approved on 06/03/2010; OMB Number 2060-0273; expires on 06/30/2013; Approved without change.

EPA ICR Number 1801.08; NESHAP for the Portland Cement Manufacturing Industry; 40 CFR part 63, subparts A and LLL; was approved on 06/03/2010; OMB Number 2060-0416; expires on 06/30/2013; Approved without change.

EPA ICR Number 1716.06; NESHAP for Wood Furniture Manufacturing Operations; 40 CFR part 63, subparts A and JJ; was approved on 06/03/2010; OMB Number 2060-0324; expires on 06/30/2013; Approved without change.

EPA ICR Number 1788.09; NESHAP for Oil and Natural Gas Production; 40 CFR part 63, subparts A and HH; was approved on 06/03/2010; OMB Number 2060-0417; expires on 06/30/2013; Approved without change.

EPA ICR Number 2044.04; NESHAP for Plastic Parts and Products Surface Coating; 40 CFR 63, subparts A and PPPP; was approved on 06/03/2010; OMB Number 2060-0537; expires on 06/30/2013; Approved without change.

EPA ICR Number 1799.05; NESHAP for Mineral Wool Production; 40 CFR part 63, subparts A and DDD; was approved on 06/08/2010; OMB Number 2060-0362; expires on 06/30/2013; Approved without change.

EPA ICR Number 2098.05; NESHAP for Primary Magnesium Refining; 40 CFR part 63, subparts A and TTTTT; was approved on 06/08/2010; OMB Number 2060-0536; expires on 06/30/2013; Approved with change.

EPA ICR Number 1678.07; NESHAP for Magnetic Tape Manufacturing Operations; 40 CFR part 63, subparts A and EE; was approved on 06/08/2010; OMB Number 2060-0326; expires on 06/30/2013; Approved with change.

EPA ICR Number 1927.05; Emission Guidelines for Existing Commerce and Industrial Solid Waste Incineration Units; 40 CFR part 60, subparts A and DDDD; was approved on 06/14/2010; OMB Number 2060-0451; expires on 06/30/2013; Approved without change.

EPA ICR Number 2115.03; NESHAP for Miscellaneous Coating Manufacturing; 40 CFR part 63, subparts A and HHHHH; was approved on 06/14/2010; OMB Number 2060-0535; expires on 06/30/2013; Approved without change.

EPA ICR Number 1381.09; Solid Waste Disposal Facility Criteria (Renewal); 40 CFR part 258; was approved on 06/14/2010; OMB Number 2050-0122; expires on 06/30/2013; Approved with change.

EPA ICR Number 0328.15; Oil Pollution Prevention; Spill Prevention, Control, and Countermeasure Rule Requirements—Amendments (Final Rule); 40 CFR part 112; was approved on 06/15/2010; OMB Number 2050-0021; expires on 06/30/2013; Approved without change.

EPA ICR Number 2364.02; Affirmative Defence Requirements for Ultra-low Sulfur Diesel; 40 CFR 80.613; was approved on 06/15/2010; OMB Number 2060-0639; expires on 12/31/2010; Approved without change.

EPA ICR Number 2233.04; EPA's WaterSense Program (Renewal); was approved on 06/15/2010; OMB Number 2040-0272; expires on 06/30/2013; Approved without change.

EPA ICR Number 2302.01; EPA's Design for the Environment Formulator Product Recognition Program; was approved on 06/18/2010; OMB Number 2070-0178; expires on 06/30/2013; Approved without change.

EPA ICR Number 0794.12; Notification of Substantial Risk of Injury to Health and the Environment under TSCA Sec. 8(e); was approved on 06/18/2010; OMB Number 2070-0046; expires on 06/30/2013; Approved without change.

EPA ICR Number 2300.05; Regulation to Establish Mandatory Reporting of Greenhouse Gases (Technical Correction); 40 CFR parts 86, 89, 90, 94, 98, 600, 1033, 1039, 1042, 1045, 1048, 1051, 1054 and 1065 was approved on 06/21/2010; OMB Number 2060-0629; expires on 11/30/2012; Approved without change.

EPA ICR Number 1666.08; NESHAP for Commercial Ethylene Oxide Sterilization and Fumigation Operations; 40 CFR part 63, subparts A and O; was approved on 06/22/2010; OMB Number 2060-0283; expires on 06/30/2013; Approved without change.

EPA ICR Number 1797.05; NSPS for Standards of Performance for Storage Vessels for Petroleum Liquids for which Construction, Reconstruction or Modification Commenced after June 11, 1973, and prior to May 19, 1978, (Renewal); 40 CFR part 60, subparts A and K; was approved on 06/22/2010; OMB Number 2060-0442; expires on 06/30/2013; Approved without change.

EPA ICR Number 1064.16; NSPS for Automobile and Light Duty Truck Surface Coating Operations; 40 CFR part 60, subparts A and MM; was approved on 06/22/2010; OMB Number 2060-0034; expires on 06/30/2013; Approved without change.

EPA ICR Number 1056.10; NSPS for Nitric Acid Plants; 40 CFR part 60, subparts A and G; was approved on 06/22/2010; OMB Number 2060-0019; expires on 06/30/2013; Approved without change.

EPA ICR Number 1157.09; NSPS for Flexible Vinyl and Urethane Coating and Printing; 40 CFR part 60, subparts A and FFF; was approved on 06/22/2010; OMB Number 2060-0073; expires on 06/30/2013; Approved without change.

EPA ICR Number 1072.09; NSPS for Lead-Acid Battery Manufacturing; 40 CFR part 60, subparts A and KK; was approved on 06/24/2010; OMB Number 2060-0081; expires on 06/30/2013; Approved without change.

EPA ICR Number 0658.10; NSPS for Pressure Sensitive Tape and Label Surface Coating; 40 CFR part 60, subparts A and RR; was approved on 06/24/2010; OMB Number 2060-0004; expires on 06/30/2013; Approved without change.

EPA ICR Number 2357.03; Regulations.gov Exchange Information Collection; was approved on 06/30/2010; OMB Number 2025-0008; expires on 12/31/2012; Approved without change.

Comment Filed

EPA ICR Number 2374.01; Corporate ID Reporting Rule; in 40 CFR part 98; OMB filed comment on 06/02/2010.

Dated: July 1, 2010.
John Moses,
Director, Collections Strategies Division.

[FR Doc. 2010-16677 Filed 7-7-10; 8:45 am]

BILLING CODE 6560-50-P